Title 3—

The President

Proclamation 8008 of April 28, 2006

Asian/Pacific American Heritage Month, 2006

By the President of the United States of America

A Proclamation

During Asian/Pacific American Heritage Month, we honor and celebrate the millions of Asian/Pacific Americans whose contributions have helped make America a strong, vibrant, and free society.

Asian/Pacific Americans represent many nations and ethnicities, each with its own culture, heritage, language, and experience. Across our country, this diverse group of people has excelled in all walks of life. Their talent and hard work have added to the success and prosperity of our Nation and helped make America a leader in the world. They have helped shape America's character and identity through their strong values, love of family, and commitment to community. America is especially grateful to the many Asian/Pacific Americans who have courageously answered the call to defend freedom as members of our Armed Forces. The sacrifices of these brave men and women help preserve the ideals of our country's founding and make the world a safer place.

To honor the achievements and contributions of Asian/Pacific Americans, the Congress, by Public Law 102-450 as amended, has designated the month of May each year as “Asian/Pacific American Heritage Month.”

NOW, THEREFORE, I, GEORGE W. BUSH, President of the United States of America, do hereby proclaim May 2006 as Asian/Pacific American Heritage Month. I call upon the people of the United States to learn more about the history of Asian/Pacific Americans and their role in our national story and to observe this month with appropriate programs and activities.

IN WITNESS WHEREOF, I have hereunto set my hand this twenty-eighth day of April, in the year of our Lord two thousand six, and of the Independence of the United States of America the two hundred and thirtieth.

B

[FR Doc. 06-4181

Filed 5-1-06; 8:50 am]

Billing code 3195-01-P